DEPARTMENT OF LABOR

Employment and Training Administration

[TA-W-52,912]

Boise Cascade Corporation, Yakima, Washington; Notice of Affirmative Determination Regarding Application for Reconsideration

By letter of December 3, 2003, the Western Council of Industrial Workers, Local Union 2739, requested administrative reconsideration of the Department of Labor's Negative Determination Regarding Eligibility to Apply for Worker Adjustment Assistance and Alternative Trade Adjustment Assistance, applicable to workers of the subject firm.

The negative determination was signed on October 20, 2003. The Notice of determination was published in the Federal Register on November 6, 2003 (68 FR 62833).

The petitioner asserts that the worker separations at the subject firm are the result of increased imports. The petitioner further asserts that the Department of Labor's interpretation of submitted documents was erroneous.

The Department has reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 10th day of February, 2004.
Linda G. Poole,
Certifying Officer, Division of Trade Adjustment Assistance.

[FR Doc. E4-384 Filed 2-24-04; 8:45 am]

BILLING CODE 4510-13-P